DEPARTMENT OF EDUCATION

34 CFR Part 300

[Docket ID ED-2023-OSERS-0052]

RIN 1820-AB82

Assistance to States for the Education of Children With Disabilities; Correction

AGENCY: Office of Special Education and Rehabilitative Services, Department of Education.

ACTION: Proposed rule; correction.

SUMMARY: On May 18, 2023, the Department of Education (Department) published in the Federal Register a notice of proposed rulemaking (NPRM) to amend regulations under Part B of the Individuals with Disabilities Education Act (Part B of IDEA or the Act) that govern the Assistance to States for the Education of Children with Disabilities program, including the Preschool Grants program. We are correcting the Docket ID used for submitting public comments. All other information in the NPRM remains the same.

DATES: This correction is applicable May 26, 2023.

FOR FURTHER INFORMATION CONTACT: Rebecca Walawender, U.S. Department of Education, 400 Maryland Avenue SW, Room 5130, Potomac Center Plaza, Washington, DC 20202-5076. Telephone: (202) 245-7399. Email: Rebecca.Walawender@ed.gov.

If you are deaf, hard of hearing, or have a speech disability and wish to access telecommunications relay services, please dial 7-1-1.

SUPPLEMENTARY INFORMATION: On May 18, 2023, we published the NPRM in the Federal Register (88 FR 31659) with a Docket ID of ED-2022-OSERS-0052. We are correcting the NPRM to reflect the correct Docket ID ED-2023-OSERS-0052.

Other than correcting the Docket ID, all other information in the NPRM remains the same.

Program Authority: 20 U.S.C. 1221e-3, 1406, 1411- 1419, and 3474; Pub. L. 111-256, 124 Stat. 2643.

Correction:

In FR Doc. 2023-10542, appearing on page 31659 of the Federal Register of May 18, 2023 (88 FR 31659), we make the following correction:

On page 31659, in the right column, below the heading “34 CFR part 300”, remove “[Docket ID ED-2022-OSERS-0052]” and add, in its place, “[Docket ID ED-2023-OSERS-0052]”.

Accessible Format: On request to the program contact person listed under FOR FURTHER INFORMATION CONTACT, individuals with disabilities can obtain this document and the NPRM in an accessible format. The Department will provide the requestor with an accessible format that may include Rich Text Format (RTF) or text format (TXT), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Miguel A. Cardona,
Secretary of Education.

[FR Doc. 2023-11256 Filed 5-25-23; 8:45 am]

BILLING CODE 4000-01-P